DEPARTMENT OF ENERGY

Federal Energy Regulatory Commission

[Project No. 12574-002]

Santiam Water Control District; Notice of Application Tendered for Filing With the Commission, Soliciting Additional Study Requests, Intent To Waive Pre-Filing Consultation Provisions, and Establishing Deadline for Submission of Final Amendments

August 7, 2007.

Take notice that the following hydroelectric application has been filed with the Commission and is available for public inspection.

a. Type of Application: Conversion of the conduit exemption application filed by the Santiam Water Control District on February 1, 2005, under P-12574-001 to an application for a small hydro (less than 5 MW) exemption.

b. Project No.: P-12574-002.

c. Date Filed: June 18, 2007, and supplemented on July 18, 2007, pursuant to Order Denying Rehearing (119 FERC ¶ 61,159).

d. Applicant: Santiam Water Control District.

e. Name of Project: Stayton Hydroelectric Project.

f. Location: On the Stayton Ditch near the Town of Stayton, Marion County, Oregon. The project would not occupy United States land.

g. Filed Pursuant to: Public Utilities Regulatory Policies Act of 1978, 16 U.S.C. §§ 2705, 2708.

h. Applicant Contact: Larry Trosi, Manager, Santiam Water Control District, 284 East Water Street, Stayton, OR 97383, (503) 769-2669.

i. FERC Contact: Tom Dean, (202) 502-6041.

j. Cooperating Agencies: We are asking Federal, state, and local agencies and Indian tribes with jurisdiction and/or special expertise with respect to environmental issues to cooperate with us in the preparation of the environmental document. Agencies who would like to request cooperating status should follow the instructions for filing comments described in item l below.

k. Pursuant to § 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: September 17, 2007.

All documents (original and eight copies) should be filed with: Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

Additional study requests and requests for cooperating agency status may be filed electronically via the Internet in lieu of paper. The Commission strongly encourages electronic filings. See 18 CFR 385.2001(a)(1)(iii) and the instructions on the Commission's Web site at (http://www.ferc.gov) under the “eFiling” link.

m. This application is not ready for environmental analysis at this time.

n. Santiam Water Control District proposes to restore operation to the Stayton Project which was operated by Pacific Power until 1992. As proposed, the Stayton Project would consist of: (1) An existing 24-foot-long by 12-foot-high intake structure equipped with 24.6-foot-long by 12-foot-high 3-inch bar spacing trashracks; (2) an existing 40-foot-long V-type spillway weir and integral powerhouse containing a single 600-kilowatt generating unit; (3) an existing 24-foot-long by 12-foot-high outlet structure; (4) an existing 100-foot-long, 2,400-kilovolt transmission line; and (5) appurtenant facilities. The project would have an average annual generation of 4,320 megawatt-hours.

Additional project facilities may include the existing: (1) Power canal head gate structure and fish ladder, and the fish screen and 28-inch-diameter, 600-foot-long juvenile fish bypassed return pipe located on the Stayton Ditch; (2) the tailrace fish barrier; (3) the Spill dam and fish ladder located on the North Channel of the Santiam River just upstream of the power canal head gate structure; and (4) the North Channel of the Santiam River including the Upper and Lower Bennett dams and fish ladders.

o. A copy of the application is available for review at the Commission in the Public Reference Room or may be viewed on the Commission's Web site at http://www.ferc.gov using the “eLibrary” link. Enter the docket number excluding the three digits in the docket number field to access the document. For assistance, please contact FERC Online Support at FERCOnlineSupport@ferc.gov or toll free at (866) 208-3676, or for TTY, contact (202) 502-8659. A copy is also available for inspection and reproduction at the address in item h above.

You may also register online at http://www.ferc.gov/docs-filing/esubscription.asp to be notified via e-mail of new filings and issuances related to this or other pending projects. For assistance, contact FERC Online Support.

p. With this notice, we are initiating consultation with the Oregon State Historic Preservation Officer (SHPO), as required by section 106, National Historic Preservation Act, and the regulations of the Advisory Council on Historic Preservation, 36 CFR 800.4.

q. Waiver of Pre-filing Consultation: We intend to use the consultation that has occurred on this project for the previous conduit exemption application supplemented with National Environmental Policy Act scoping as a means to conduct further consultation with resource agencies and interested entities. Therefore, we intend to waive pre-filing consultation sections 4.38(a)-(g) which requires, among other things, holding a joint meeting, and distributing and consulting on a draft exemption application.

Final amendments to the application must be filed with the Commission no later than 30 days from the issuance date of the notice of ready for environmental analysis.

Kimberly D. Bose,
Secretary.

[FR Doc. E7-15797 Filed 8-10-07; 8:45 am]

BILLING CODE 6717-01-P